DEPARTMENT OF JUSTICE

Notice of Lodging of Consent Decree Under the Comprehensive Environmental Response, Compensation, and Liability Act (“CERCLA”)

Notice is hereby given that on November 4, 2009, a proposed consent decree (“proposed Decree”) in United States v. Alabama Plating Co., et al., Civil Action No. 2:08-cv-01422, was lodged with the United States District Court for the Northern District of Alabama, Southern Division.

In this action under Section 107(a) of the Comprehensive Environmental Response, Compensation, and Liability Act, 42 U.S.C. 9607(a) (“CERCLA”), the United States sought to recover response costs incurred or to be incurred by the United States as a result of releases and threatened releases of hazardous substances at the Alabama Plating Superfund Site, a former electroplating and hot-dip galvanizing facility located in Vincent, Shelby County, Alabama. The proposed Decree requires the defendants to pay $720,000 to the United States in reimbursement of past and future response costs, and provides the defendants with a covenant not to sue under Sections 106 and 107(a) of CERCLA, 42 U.S.C. 9606 and 9607(a).

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States v. Alabama Plating Co., et al., D.J. Ref. 90-7-1-06380/1.

The proposed Decree may be examined at the Office of the United States Attorney for the Northern District of Alabama, 1801 Fourth Avenue North, Birmingham, AL 35203-2101, and at U.S. EPA Region 4, 61 Forsythe Street, SW., Atlanta, GA 30303. During the public comment period, the proposed Decree may also be examined on the following Department of Justice Web site: http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 (25 cents per page reproduction cost) payable to the U.S. Treasury or, if by e-mail or fax, forward a check in that amount to the Consent Decree Library at the stated address.

Maureen Katz,
Assistant Chief, Environmental Enforcement Section, Environment and Natural Resources Division.

[FR Doc. E9-27035 Filed 11-9-09; 8:45 am]

BILLING CODE 4410-15-P